DEPARTMENT OF COMMERCE

Notice of Public Meeting

AGENCY: International Trade Administration, Department of Commerce.

ACTION: Meeting notice.

SUMMARY: The U.S. Department of Commerce, the European Commission, and the Article 29 Working Party on Data Protection will jointly sponsor a Conference on Cross Border Data Flows, Data Protection, and Privacy in Washington, DC, October 15-16, 2007.

DATES: October 15-16, 2007.

ADDRESSES: You may submit comments regarding this conference to the contact below. Please include your mailing address, e-mail address, telephone including area code, and/or fax number with your submission.

FOR FURTHER INFORMATION CONTACT: Damon C. Greer, U.S. Department of Commerce, Office of Technology and Electronic Commerce, Safe Harbor Program, 1401 Constitution Avenue, NW., Room 2003, Washington, DC 20230; Telephone: 202-482-5023; Fax: 202-482-5522; e-mail: Safeharbor@mail.doc.gov.

SUPPLEMENTARY INFORMATION: This conference is open to the public but space is limited to approximately 150 attendees.

Dated: July 23, 2007.
Robin Layton,
Director, Office of Technology and Electronic Commerce.

[FR Doc. E7-14499 Filed 7-26-07; 8:45 am]

BILLING CODE 3510-DR-P